NATIONAL SCIENCE FOUNDATION

Sunshine Act Meetings

FEDERAL REGISTER CITATION OF PREVIOUS ANNOUNCEMENT: 86 FR 40216, July 27, 2021.

PREVIOUSLY ANNOUNCED TIME AND DATE OF THE MEETING: The National Science Board's Committee on External Engagement teleconference meeting was scheduled for August 3, 2021, from 11:00-11:45 a.m. EDT.

CHANGES IN THE MEETING: The new date and time is July 30, 2021, from 5:30-6:15 p.m. EDT.

CONTACT PERSON FOR MORE INFORMATION: Chris Blair, 703/292-7000, cblair@nsf.gov.

Chris Blair,
Executive Assistant to the National Science Board Office.

[FR Doc. 2021-16496 Filed 7-29-21; 4:15 pm]

BILLING CODE P